DEPARTMENT OF ENERGY

Federal Energy Regulatory Commission

[Docket No. RP01-244-000]

Northwest Alaskan Pipeline Company; Notice of Tariff Filing

March 6, 2001.

Take notice that on February 28, 2001, Northwest Alaskan Pipeline Company (Northwest Alaskan) tendered for filing to become part of its FERC Gas Tariff, Original Volume No. 2, Fiftieth Revised Sheet No. 5, proposed to be effective January 1, 2001.

Northwest Alaskan states that the purpose of the instant filing is to remove its administrative charges from the demand charges stated in its tariff and to provide for payment by Pan-Alberta Gas (U.S.) Inc. (Pan-Alberta) of the net amount (i.e., the total amount Pan—Alberta has agreed to pay to Northwest Alaskan, less the litigation costs that it already has paid through Northwest Alaskan's administrative charges) owed by Northwest Alaskan under the parties' Settlement Agreement of November 28, 2000. Northwest Alaskan further states that the Commission approved the parties' settlement on February 7, 2001, by letter order in Northwest Alaskan's Docket Nos. RP99-308-003, et al., 94 FERC ¶ 61,098.

Northwest Alaskan states that it is serving copies of the instant filing on its affected customers.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at ­ http://www.ferc.fed.us/online/rims.htm (call 202-208-2222 for assistance). Comments and protests may be filed electronically via the internet in lieu of paper. See, 18 CFR 385.2001(a)(1)(ii) and the instructions on the Commission's web site at http://www.ferc.fed.us/efi/doorbell.htm.

David P. Boergers,
Secretary.

[FR Doc. 01-5995 Filed 3-9-01; 8:45 am]

BILLING CODE 6717-01-M